DEPARTMENT OF THE INTERIOR

National Park Service

Notice of Inventory Completion: Robert S. Peabody Museum of Archaeology, Phillips Academy, Andover, MA

AGENCY: National Park Service, Interior.

ACTION: Notice.

Notice is here given in accordance with the Native American Graves Protection and Repatriation Act (NAGPRA), 25 U.S.C. 3003, of the completion of an inventory of an associated funerary object in the possession of the Robert S. Peabody Museum of Archaeology, Phillips Academy, Andover, MA. The associated funerary object was removed from McCurtain County, OK.

This notice is published as part of the National Park Service's administrative responsibilities under NAGPRA, 25 U.S.C. 3003 (d)(3). The determinations in this notice are the sole responsibility of the museum, institution, or Federal agency that has control of the Native American associated funerary object. The National Park Service is not responsible for the determinations in this notice.

A detailed assessment of the associated funerary object was made by Robert S. Peabody Museum of Archaeology professional staff in consultation with representatives of the Caddo Nation of Oklahoma and the Wichita and Affiliated Tribes (Wichita, Keechi, Waco and Tawakonie), Oklahoma.

In 1913, a Hudson Engraved ceramic vessel was collected from a site whose locality is described as “Sec 7 TP6S, R23E” in McCurtain County, OK, by E.S. Byington. Mr Byington was temporarily employed by W.K. Moorehead of the Robert S. Peabody Museum. Museum records indicate that human remains and the ceramic vessel were collected by Mr. Byington for the Robert S. Peabody Museum of Archaeology, although the excavator is identified as T.H. Rogers. Both men were employees of the Texas, Oklahoma and Eastern Railroad Company. In 1963, the Robert S. Peabody Museum of Archaeology donated the human remains to the Peabody Museum of Archaeology and Ethnology, Harvard University. The human remains associated with the funerary object are in the custody of the Peabody Museum of Archaeology and Ethnology at Harvard University and were described in a notice of inventory completion published in the Federal Register on August 16, 2000 (FR Doc. 00¯20823).

Based on geographical, historic, and archeological evidence, the associated funerary object is culturally affiliated with the Caddo Nation of Oklahoma. Hudson Engraved ceramics are related to the McCurtain phase (A.D.1450¯1600), and historic evidence indicates that Hudson Engraved ceramics were produced by Caddoan peoples circa A.D. 1500¯1730. Although the exact site from which the human remains and the associated funerary object were removed is not known, the site is located in the historic territory of the Caddo tribe; other sites in the area have produced Hudson Engraved or closely related vessels, some of which have been found in association with European trade items.

Officials of the Robert S. Peabody Museum of Archaeology have determined that, pursuant to 25 U.S.C. 3001 (3)(A), the one object described above is reasonably believed to have been placed with or near individual human remains at the time of death or later as part of the death rite or ceremony. Officials of the Robert S. Peabody Museum of Archaeology also have determined that, pursuant to 25 U.S.C. 3001 (2), there is a relationship of shared group identity that can be reasonably traced between the Native American associated funerary object and the Caddo Nation of Oklahoma.

Representatives of any other Indian tribe that believes itself to be culturally affiliated with the associated funerary object should contact Malinda Blustain, Director, Robert S. Peabody Museum of Archaeology, Phillips Academy, Andover, MA 01810, telephone (978) 749¯4490, before May 2, 2005. Repatriation of the associated funerary object to the Caddo Nation of Oklahoma may proceed after that date if no additional claimants come forward.

The Robert S. Peabody Museum of Archaeology is responsible for notifying the Caddo Nation of Oklahoma and the Wichita and Affiliated Tribes (Wichita, Keechi, Waco and Tawakonie), Oklahoma that this notice has been published.

Dated: February 2, 2005.
Sherry Hutt,
Manager, National NAGPRA Program.

[FR Doc. 05-6467 Filed 3-31-05; 8:45 am]

BILLING CODE 4312-50-S